DEPARTMENT OF COMMERCE

[I.D. 081402B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Gear-Marking Requirements for Atlantic Large Whale Take Reduction Plan.

Form Number(s): None.

OMB Approval Number: 0648-0364.

Type of Request: Regular submission.

Burden Hours: 2,572.

Number of Respondents: 4,506.

Average Hours Per Response: 0.6 minutes.

Needs and Uses: Persons setting lobster trap or gillnet gear in specified areas of the Atlantic Ocean are required to mark their gear with one color designating the type of gear and the area where the gear is set. The shark gillnet fishery requires their gear to be marked with two color codes, one color designating the type of gear and the other designating the area where the gear is set. The designated areas are critical right whale habitat or areas where right whales are seen on a regular basis. The purpose of the requirement is to obtain information on where large whales are becoming entangled in fishing gear and the type of gear responsible for the entanglement. The information helps NOAA to focus risk-reduction efforts on specific problem areas rather than broader overall requirements on the industry.

Affected Public: Business or other for-profit organizations, individuals or households.

Frequency: Third-party disclosure.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 13, 2002.
Madeleine Clayton,
Departmental Paperwork Clearance Officer, Office of the Chief Information Officer.

[FR Doc. 02-21173 Filed 8-19-02; 8:45 am]

BILLING CODE 3510-22-S